EXPORT-IMPORT BANK

Sunshine Act Meeting

ACTION: Notice of open special meeting of the Board of Directors of the Export-Import Bank of the United States.

Time and Place: Tuesday, July 31, 2001, at 2 p.m. The meeting will be held at Ex-Im Bank in Room 1143, 811 Vermont Avenue, NW., Washington, DC 20571.

Agenda: Draft Revised Economic Impact Procedures.

Public Participation: The meeting will be open to public participation.

Further Information: For further information, contact: Office of the Secretary, 811 Vermont Avenue, NW., Washington, DC 20571 (Telephone No. (202) 565-3957 or 3336).

Peter B. Saba,
General Counsel.

[FR Doc. 01-19014 Filed 7-26-01; 12:29 pm]

BILLING CODE 6690-01-M